ELECTION ASSISTANCE COMMISSION

Sunshine Act Meetings

AGENCY: U.S. Election Assistance Commission.

ACTION: Sunshine act notice; cancellation.

FEDERAL REGISTER CITATION OF PREVIOUS ANNOUNCEMENT: 85 FR 63263, October 7, 2020.

PREVIOUSLY ANNOUNCED TIME AND DATE OF THE MEETING: Wednesday, October 14, 2020, 1:30 p.m. Eastern.

CHANGES IN THE MEETING: The Hearing scheduled for Wednesday, October 14, 2020, 1:30 p.m. Eastern has been cancelled.

CONTACT PERSON FOR MORE INFORMATION: Kristen Muthig, Telephone: (202) 897-9285, Email: kmuthig@eac.gov.

Amanda Joiner,
Associate Counsel, U.S. Election Assistance Commission.

[FR Doc. 2020-22865 Filed 10-9-20; 4:15 pm]

BILLING CODE P